GENERAL SERVICES ADMINISTRATION

[Notice-MG-2016-04; Docket No. 2016-0002; Sequence No. 25]

Office of Federal High-Performance Green Buildings; Green Building Advisory Committee; Notification of Upcoming Public Advisory Committee Meeting

AGENCY: Office of Government-wide Policy, General Services Administration (GSA).

ACTION: Meeting notice.

SUMMARY: Notice of this meeting is being provided according to the requirements of the Federal Advisory Committee Act, 5 U.S.C. App. 10(a)(2). This notice provides the agenda and schedule for the November 17, 2016 meeting of the Green Building Advisory Committee (the Committee). The meeting is open to the public and the site is accessible to individuals with disabilities. Interested individuals must register to attend as instructed below under Supplementary Information.

DATES: The meeting will be held on Thursday, November 17, 2016, starting at 9:00 a.m. Eastern daylight time (EDT), and ending approximately at 4:00 p.m., EDT.

FOR FURTHER INFORMATION CONTACT: Mr. Ken Sandler, Designated Federal Officer, Office of Federal High-Performance Green Buildings, Office of Government-wide Policy, General Services Administration, 1800 F Street NW., Washington, DC 20405, telephone 202-219-1121 (note: This is not a toll-free number). Additional information about the Committee, including meeting materials and updates on the task groups and their schedules, will be available on-line at http://www.gsa.gov/gbac.

SUPPLEMENTARY INFORMATION:

Procedures for Attendance and Public Comment: Contact Mr. Ken Sandler at ken.sandler@gsa.gov to register to attend the meeting. To attend the meeting, submit your full name, organization, email address, and phone number. Requests to attend the November 17, 2016 meeting must be received by 5:00 p.m., EDT, on Monday, November 14, 2016.

Contact Ken Sandler at ken.sandler@gsa.gov to register to comment during the meeting public comment period. Registered speakers/organizations will be allowed a maximum of 5 minutes each and will need to provide written copies of their presentations. Requests to comment at the meeting must be received by 5:00 p.m., EDT, on Monday, November 14, 2016. Written comments also may be provided to Mr. Sandler at ken.sandler@gsa.gov by the same deadline.

Background: The Administrator of the U.S. General Services Administration established the Committee on June 20, 2011 (Federal Register/Vol. 76, No. 118) pursuant to Section 494 of the Energy Independence and Security Act of 2007 (EISA, 42 U.S.C. 17123). Under this authority, the Committee advises GSA on the rapid transformation of the Federal building portfolio to sustainability. The Committee reviews strategic plans, products and activities of the Office of Federal High-Performance Green Buildings and provides advice regarding how the Office can accomplish its mission most effectively.

November 17, 2016 Meeting Agenda

• Welcome, Plans for Today & Introductions

• Green Leasing: Task Group Report & Discussion

• Energy Use Intensity: Task Group Report & Discussion

• Following Up on Committee Recommendations: Update

• Election of Committee Chair, 2017-2019

• Working Lunch with Presentation

• Committee Planning Exercise

• Public Comment Period

• Closing Comments & Adjournment

Detailed agendas, background information and updates for the meeting will be posted on GSA's Web site at http://www.gsa.gov/gbac.

Meeting Access: The Committee will convene its November 17, 2016 meeting at the U.S. Access Board, 8th Floor Conference Room, at 1331 F Street NW., Suite 800, Washington, DC. The site is accessible to individuals with disabilities. Persons attending meetings in the Access Board's conference space are requested to refrain from using perfume, cologne, and other fragrances (see https://www.access-board.gov/the-board/policies/fragrance-free-environment) for more information).

Dated: October 20, 2016.
Donald R. Horn,
Deputy Director, Office of Federal High-Performance Green Buildings, General Services Administration.

[FR Doc. 2016-26038 Filed 10-26-16; 8:45 am]

BILLING CODE 6820-14-P